DEPARTMENT OF THE INTERIOR

Bureau of Land Management

[LLWYD09000.L14400000.EU0000; WYW-171467]

Notice of Intent To Amend the Kemmerer Resource Management Plan and Prepare an Environmental Assessment; and Notice of Realty Action: Classification and Proposed Direct Sale of Public Land in Lincoln County, Wyoming

AGENCY: Bureau of Land Management, Interior.

ACTION: Notice of intent and notice of realty action.

SUMMARY: In compliance with sections 203 and 209 of the Federal Land Policy and Management Act (FLPMA), as amended, and the National Environmental Policy Act (NEPA) of 1969, as amended, the Bureau of Land Management's (BLM) Kemmerer Field Office proposes to amend the May 24, 2010, Kemmerer Resource Management Plan (RMP) and prepare an environmental assessment (EA), to identify and allow the direct sale of an isolated parcel of public land totaling 2.80 acres to the adjacent landowner (Teichert Brothers, LLC) in Lincoln County, Wyoming, at the appraised fair market value (FMV) of $1,470.

DATES: Written comments regarding the amendment, classification, or sale must be received by the BLM no later than August 15, 2016 or 30 days after the last public meeting, whichever is later. The date(s) of the scoping meetings will be announced at least 15 days in advance through local news media and newspapers.

ADDRESSES: You may submit comments on issues and planning criteria related to the plan amendment and realty action by any of the following methods:

• Mail: Field Manager, Kemmerer Field Office, 430 North Highway 189, Kemmerer, WY 83101, or by

• Email: Kemmerer_WYMail@blm.gov with “Teichert Land Sale” in the subject line.

Documents pertinent to this proposal are available at the above address.

FOR FURTHER INFORMATION CONTACT: Kelly Lamborn, Realty Specialist, BLM Kemmerer Field Office, 430 North Highway 189, Kemmerer, WY 83101; telephone 307-828-4505; email klamborn@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Kemmerer Field Office intends to prepare an RMP amendment with an associated EA for the Kemmerer RMP, announces the beginning of the scoping process, and seeks public input on issues and planning criteria. The purpose of the public scoping process is to determine relevant issues that will influence the scope of the environmental analysis, including alternatives, and guide the planning process. Preliminary issues for the plan amendment area have been identified by BLM personnel, Federal, State and local agencies, and other stakeholders. The Kemmerer RMP does not specifically include nor identify the sale parcel for disposal and therefore, a land-use plan amendment is required.

The BLM is proposing to amend the May 24, 2010, Kemmerer RMP, as amended by the Approved Resource Management Plan Amendments (ARMPA) for the Rocky Mountain Region, approved September 22, 2015, to identify and allow for the classification and direct sale of public land. The parcel is described as:

Sixth Principal Meridian, Wyoming

T. 24 N., R. 119 W.,

sec. 29, lot 21.

The area described contains 2.80 acres.

Under Section 203 of FLPMA, as amended (43 U.S.C. 1713), if the BLM determines that the parcel of public land is suitable for disposal, then the BLM may propose to offer it for direct sale at the appraised FMV. The BLM will reserve the minerals for this parcel under Section 209 of FLPMA (43 U.S.C. 1719). This sale parcel has no public access. The parcel is surrounded on all sides by lands owned by Teichert Brothers, LLC. The location makes it difficult and uneconomical for the BLM to manage and is not suitable for management by another Federal agency. The sale is consistent with the objectives, goals, and decision of the BLM Kemmerer RMP, and would be in the public interest. The ARMPA Management Decision, LR 7, allows for lands within Greater Sage-Grouse general habitat management areas to be disposed of, as long as the action is consistent with the goals and objectives of the plan, including, but not limited to, the goal to conserve, recover, and enhance sage-grouse habitat on a landscape scale. In accordance with 43 CFR 2710.0-6(c)(3)(iii) and 43 CFR 2711.3-3(a), direct sale procedures are appropriate to protect existing equities in the land. Conveyance of the sale parcel will be subject to valid existing rights and encumbrances of record, including, but not limited to, rights-of-way (ROWs) for roads and public utilities. The patent will include an appropriate indemnification claim protecting the United States from claims arising out of the patentee's use occupancy or occupations on the patented lands. No warranty of any kind, express or implied, is given by the United States as to the title, physical condition, or potential uses of the parcel of land proposed for sale. The United States will retain all mineral rights.

Upon publication of this Notice in the Federal Register, this notice segregates the above-mentioned sale parcel from appropriation under the public land laws, including the mining laws, except the sale provision of FLPMA. This segregative effect will end upon issuance of the patent, publication in the Federal Register of a termination of the segregation, or June 29, 2018, whichever occurs first or unless extended by the BLM Wyoming State Director in accordance with 43 CFR 2711.1-2(d) prior to the termination date. Until completion of the sale, the BLM will no longer accept land use applications affecting the sale parcel, except applications for the amendment of previously filed ROW applications or existing authorizations to increase the term of the grants, in accordance with 43 CFR 2807.15 and 2886.15.

The patent if issued, would be subject to the following terms, conditions, and reservations:

1. All minerals, together with the right to prospect for, mine, and remove such deposits from the same under applicable law and such regulation as the Secretary of the Interior may prescribe;

2. A right-of-way for ditches or canals constructed by the authority of the United States pursuant to the Act of August 30, 1890, (43 U.S.C. 945); and

3. All valid existing rights.

All information concerning these actions is available for review at the address above during normal business hours, 7:45 a.m. to 4:30 p.m., Monday through Friday, excluding Federal holidays.

You may submit comments on issues and planning criteria regarding the RMP amendment process, classification of the direct sale parcel, and notification of any encumbrances or other claims relating to the sale parcel in writing to the BLM at any public scoping meeting. Additionally, you may submit comments to the BLM using one of the methods listed in the ADDRESSES section above. For your comments to be considered, you must submit them by the deadlines listed in the DATES section above. The BLM will use the NEPA public participation requirements to assist the agency in satisfying the public involvement requirements under Section 106 of the National Historic Preservation Act (NHPA) (16 U.S.C. 470(f)) pursuant to 36 CFR 800.2(d)(3). The historic and cultural resources information within the sale parcel will assist the BLM in identifying and evaluating impacts to such resources in the context of both NEPA and Section 106 of the NHPA.

Federal, State, and local agencies, along with other stakeholders that may be interested in or affected by the proposed action that the BLM is evaluating, are invited to participate in the scoping process and, if eligible, may request or be requested by the BLM to participate in the development of the environmental analysis as a cooperating agency. The minutes and list of attendees for each scoping meeting will be available to the public and open for 30 days after the meeting to any participant who wishes to clarify the views he or she expressed. The BLM will address and evaluate all issues and place them into one of three following categories:

1. Issues to be resolved in the plan amendment;

2. Issues to be resolved through policy or administrative action; or

3. Issues beyond the scope of this plan amendment.

The BLM will provide an explanation in the Draft RMP Amendment/Draft EA as to why an issue was placed in Category two or three. The public is encouraged to identify any management questions and concerns that should be addressed in the plan. The BLM will work collaboratively with interested parties to identify the management decisions that are best suited to local, regional, and national needs and concerns.

The BLM will use an interdisciplinary approach to develop the plan amendment in order to consider the variety of resource issues and concerns.

No representation, warranty, or covenant of any kind, express or implied, will be given or made by the United States, its officers or employees as to access to or from the above-described parcel of land, the title to the land, whether or to what extent the land may be developed, its physical condition or its past, present or potential uses, and the conveyance of any such parcel will not be on a contingency basis. It is the responsibility of the buyer to be aware of all applicable Federal, State, and local government policies and regulations that would affect the subject lands. It is also the buyer's responsibility to be aware of existing or prospective uses of nearby properties. Lands without access from a public road or highway will be conveyed as such, and future access acquisition will be the responsibility of the buyer.

Before including your address, phone number, email address, or other personal identifying information in your comment, you should be aware that your entire comment—including your personal identifying information—may be made publicly available at any time. While you can ask us in your comment to withhold your personal identifying information from public review, we cannot guarantee that we will be able to do so. Any adverse comments will be reviewed by the Wyoming State Director, who may sustain, vacate, or modify this realty action. In the absence of timely filed objections, this realty action will become the final determination of the Department of the Interior.

Authority: 40 CFR 1501.7, 43 CFR 1610.2, 43 CFR 2400, and 43 CFR 2711.

Brian W. Davis,
Acting State Director, Wyoming.

[FR Doc. 2016-15383 Filed 6-28-16; 8:45 am]

BILLING CODE 4310-22-P